DEPARTMENT OF STATE

[Public Notice # 4085]

Notice of Meetings; United States International Telecommunication Advisory Committee Preparations for Various Telecommunication Standardization Meetings

The Department of State announces meetings of the U.S. International Telecommunication Advisory Committee (ITAC). The purpose of the Committee is to advise the Department on policy, technical and operational issues with respect to international telecommunications standardization bodies such as the International Telecommunication Union.

The ITAC will meet electronically to prepare for the ITU-T Special Study Group September 16-20. Documents must be posted to “sgb-ssg@almsntsa.lmlist.state.gov” by September 16; comments on the documents posted to the same address by September 18, responses posted by September 20, and final action will be posted by the Department of State on September 23. If necessary, this meeting may be continued through a later date. People not already members of the “sgb-ssg” reflector may join by contacting minardje@state.gov by e-mail. The ITAC will also conduct a conference call on September 17 to discuss approaches to anticipated agenda items.

The ITAC will meet to prepare for ITU-T Study Group 16 on September 18 from 9:30 until noon at the Department of State in a room to be announced.

The ITAC will meet to prepare for ITU-T Study Groups 11 and 13 on October 10 at 9:30 a.m. at the U.S. Department of Commerce, 325 Broadway, Room 1107 Boulder, CO 80305.

The ITAC will meet electronically to prepare for SG17 from October 28-November 6. Documents must be posted to “sgd@almsntsa.lmlist.state.gov” by October 28; comments on the documents posted to the same address by October 31, responses posted by October 4, and final action will be posted by the Department of State on October 6. People not already members of the “sgd” reflector may join by contacting minardje@state.gov by e-mail.

The ITAC will meet from 9:30 to noon on November 6 at a location to be determined in Washington, DC to prepare for ITU-T SG2.

The ITAC will meet electronically from November 11 to 15, 2002 to recommend approval of normal (white) contributions to the ITU-T SG 15 Meeting of January 20-31, 2003. This meeting will be announced on the reflector at <sgb@almsntsa.lmlist.state.gov>.

The ITAC will meet from 9:30 to noon on November 20 at a room at the Federal Communications Commission, Washington, DC to prepare for ITU-T SG3.

The ITAC will meet on December 17, 2002 to prepare for the ITU-T SG 15 meeting at a location in Northern Virginia to be announced.

Members of the public will be admitted to the extent that seating is available, and may join in the discussions, subject to the instructions of the Chair. Entrance to the Department of State is controlled; people intending to attend a meeting at the Department of State should send their clearance data by fax to (202) 647-7407 or e-mail to worsleydm@state.gov not later than 24 hours before the meeting. Please include the name of the meeting, your name, social security number, date of birth and organizational affiliation. One of the following valid photo identifications will be required for admittance: U.S. driver's license with your picture on it, U.S. passport, or U.S. Government identification. Directions to the meeting location may be obtained by calling the ITAC Secretariat at 202 647-2592 or e-mail to worsleydm@state.gov.

Dated: August 22, 2002.
Douglas R. Spalt,
Alternate Director, Radiocommunication Standardization, U.S. Department of State.

[FR Doc. 02-22220 Filed 8-29-02; 8:45 am]

BILLING CODE 4710-45-P